DEPARTMENT OF HOMELAND SECURITY

Coast Guard

33 CFR Part 165

[Docket No. USCG-2016-0518]

Special Local Regulations; Marine Events Held in the Sector Delaware Bay Captain of the Port Zone

AGENCY: Coast Guard, DHS.

ACTION: Notice of enforcement of regulation.

SUMMARY: The Coast Guard will enforce the safety zone in the Delaware River, near Philadelphia, Pennsylvania, for annual fireworks displays in the Captain of the Port Delaware Bay zone at specified times from June 15, 2016 through July 4, 2016. Enforcement of this zone is necessary and intended to ensure safety of life on the navigable waters immediately prior to, during, and immediately after these fireworks events. During the enforcement period, no vessel may transit this regulated area without approval from the Captain of the Port (COTP) or a designated representative.

DATES: The regulation in 33 CFR 165.506 will be enforced for the safety zone listed in Section (a), Line (16) of the Table in § 165.506 from 8 p.m. until 10 p.m. on July 1, 2016, through July 4, 2016.

FOR FURTHER INFORMATION CONTACT: If you have questions about this notice of enforcement, call or email LT Brennan Dougherty, Sector Delaware Bay Waterways Management Division, U.S. Coast Guard; telephone 215-271-4851, email Brennan.P.Dougherty@uscg.mil.

SUPPLEMENTARY INFORMATION: The Coast Guard will enforce the safety zone for fireworks in the Delaware River in Philadelphia, PA listed in 33 CFR 165.506, in Section (a), Line (16) of the Table from 8 p.m. until 10 p.m. on June 15, 2016, and July 1, 2016, through July 4, 2016. This action is being taken to provide for the safety of life on navigable waterways during the fireworks display. Our regulation for Recurring Marine Events in Captain of the Port Delaware Bay Zone, § 165.506, specifies the location of the regulated area for this safety zone as all waters of Delaware River, adjacent to Penn's Landing, Philadelphia, PA, bounded from shoreline to shoreline, bounded on the south by a line running east to west from points along the shoreline at latitude 39°56′31.2″ N, longitude 075°08′28.1″ W; thence to latitude 39°56′29″.1 N, longitude 075°07′56.5″ W, and bounded on the north by the Benjamin Franklin Bridge.

As specified in § 165.506, during the enforcement period no vessel may transit this safety zone without approval from the Captain of the Port Delaware Bay (COTP). If permission is granted, all persons and vessels shall comply with the instructions of the COTP or designated representative.

This notice of enforcement is issued under authority of 33 CFR 165.506 and 5 U.S.C. 552(a). In addition to this notice of enforcement in the Federal Register, the Coast Guard will provide the maritime community with advanced notification of this enforcement period via Broadcast Notice to Mariners (BNM). If the COTP, Delaware Bay, determines that the regulated area need not be enforced for the full duration, a BNM to grant general permission to enter the safety zone will be used.

Dated: June 14, 2016.
Benjamin A. Cooper,
Captain, U.S. Coast Guard, Captain of the Port Delaware Bay.

[FR Doc. 2016-15032 Filed 6-27-16; 8:45 am]

BILLING CODE 9110-04-P